NATIONAL AERONAUTICS AND SPACE ADMINISTRATION

[Notice: (16-059)]

Annual Invitation for Public Nominations by U.S. Citizens for Service on NASA Federal Advisory Committees

AGENCY: National Aeronautics and Space Administration.

ACTION: Notice.

SUMMARY: NASA announces its annual invitation for public nominations for service on NASA Federal advisory committees. U.S. citizens may submit self-nominations for consideration as potential members of NASA's Federal advisory committees. NASA's Federal advisory committees have member vacancies from time to time throughout the year, and NASA will consider self-nominations to fill such intermittent vacancies. NASA is committed to selecting members to serve on its Federal advisory committees based on their individual expertise, knowledge, experience, and current/past contributions to the relevant subject area.

DATES: The deadline for NASA receipt of all public nominations is September 30, 2016.

FOR FURTHER INFORMATION CONTACT: For any questions, please contact Ms. Marla King, Advisory Committee Specialist, Advisory Committee Management Division, Office of International and Interagency Relations, NASA Headquarters, Washington, DC 20546, (202) 358-1148. To view advisory committee charters and obtain further information on NASA's Federal advisory committees, please visit the NASA Advisory Committee Management Division Web site noted in the SUPPLEMENTARY INFORMATION section.

SUPPLEMENTARY INFORMATION: Self-nominations from interested U.S. citizens must be sent electronically to NASA in letter form, be signed, and must include the name of specific NASA Federal advisory committee of interest for NASA consideration. Self-nomination letters are limited to specifying interest in only one (1) NASA Federal advisory committee per year. The following additional information is required to be attached to each self-nomination letter (i.e., cover letter): (1) Professional resume (one-page maximum); (2) professional biography (one-page maximum). Please submit the self-nomination package as a single package containing cover letter and both required attachments to hq-nasanoms@mail.nasa.gov. All public self-nomination packages must be submitted electronically via email to NASA; paper-based documents sent through postal mail (hard-copies) will not be accepted. NOTE: Nomination letters that are noncompliant with the directions above and do not include the two (2) mandatory documents listed will not receive further consideration by NASA. NASA's six (6) currently chartered Federal advisory committees are listed below. The individual charters may be found at the NASA Advisory Committee Management Division's Web site at http://oiir.hq.nasa.gov/acmd.html:

• Aerospace Safety Advisory Panel—The Aerospace Safety Advisory Panel provides advice and recommendations to the NASA Administrator and the Congress on matters related to safety, and performs such other duties as the NASA Administrator may request.

• Applied Sciences Advisory Committee—The Applied Sciences Advisory Committee provides advice and makes recommendations to the Director, Earth Science Division, Science Mission Directorate, NASA Headquarters, on Applied Sciences programs, policies, plans, and priorities.

• International Space Station (ISS) Advisory Committee—The ISS Advisory Committee provides advice and recommendations to the NASA Associate Administrator for Human Exploration and Operations Mission Directorate on all aspects related to the safety and operational readiness of the ISS. It addresses additional issues and/or areas of interest identified by the NASA Associate Administrator for Human Exploration and Operations Mission Directorate.

• International Space Station (ISS) National Laboratory Advisory Committee—The ISS National Laboratory Advisory Committee monitors, assesses, and makes recommendations to the NASA Administrator regarding effective utilization of the ISS as a national laboratory and platform for research, and such other duties as the NASA Administrator may request.

• NASA Advisory Council—The NASA Advisory Council (NAC) provides advice and recommendations to the NASA Administrator on Agency programs, policies, plans, financial controls, and other matters pertinent to the Agency's responsibilities. The NAC consists of the Council and five (5) Committees: Aeronautics; Human Exploration and Operations; Institutional; Science; and Technology, Innovation and Engineering. NOTE: All nominations for the NASA Advisory Council must indicate the specific entity of interest, i.e., either the Council or one of its five (5) Committees.

• National Space-Based Positioning, Navigation and Timing (PNT) Advisory Board—The National Space-Based PNT Advisory Board provides advice to the PNT Executive Committee (comprised of nine stakeholder Federal agencies, of which NASA is a member) on U.S. space-based PNT policy, planning, program management, and funding profiles in relation to the current state of national and international space-based PNT services.

Patricia D. Rausch,
Advisory Committee Management Officer, National Aeronautics and Space Administration.

[FR Doc. 2016-20863 Filed 8-30-16; 8:45 am]

BILLING CODE 7510-13-P